DEPARTMENT OF AGRICULTURE

Food and Nutrition Service

Agency Information Collection Activities: Proposed Collection; Comment Request; Food Stamp Program Identification Cards

AGENCY: Food and Nutrition Service, USDA.

ACTION: Notice.

SUMMARY: In accordance with the Paperwork Reduction Act of 1995, this notice invites the general public and other public agencies to comment on proposed information collection associated with Food Stamp Program Identification Cards.

DATES: Written comments must be submitted on or before September 26, 2003.

ADDRESSES: Send comments and requests for copies of this information collection to: Lizbeth Silbermann, Chief, Electronic Benefit Transfer Branch, Benefit Redemption Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for Office of Management and Budget approval. All comments will also become a matter of public record.

FOR FURTHER INFORMATION CONTACT: Lizbeth Silbermann, Chief, Electronic Benefits Transfer Branch, (703) 305-2517.

SUPPLEMENTARY INFORMATION:

Title: Food Stamp Program Identification Cards.

OMB Number: 0584-0124.

Form Number: None.

Expiration Date: 11/30/2003.

Type of Request: Revision of a currently approved collection.

Abstract: Section 11(e)(15) of the Food Stamp Act (the Act) (7 U.S.C. 2020 (e)(15)) requires State agencies to issue photographic identification to recipients in certain project areas if the Secretary and the Department's Inspector General find it useful and cost effective for program integrity. The Food Stamp Program (FSP) regulations at 7 CFR 274.10(a) require State agencies to issue an identification (ID) card to recipients as a proof of eligibility. FSP regulations at 7 CFR 274.10(b) require State agencies to issue photo ID cards in project areas with 100,000 or more recipients unless the area uses direct mail issuance or has implemented an Electronic Benefits Transfer (EBT) system. Because of EBT and direct mail issuance, there are no remaining areas where photo ID cards are now needed; therefore, this category of cards has been eliminated. Recipients in areas without EBT or direct mail issuance, however, must present ID cards to coupon issuers. Also, retailers that have been authorized to accept FSP benefits may ask recipients to show their ID when making a purchase.

The proposed revision to the information collection burden associated with FSP identification cards reflects a reduction because of the legislated requirement for State agencies to change from coupon to EBT systems in Section 7(i) of the Act (7 U.S.C. 2016 (i)). With EBT systems, the need to prove identity or eligibility with a paper document becomes obsolete. With EBT systems, benefits are not physically distributed but are posted electronically to accounts created for recipients by State agencies through their EBT vendors. As a result, coupon issuance agents are eliminated. The State agencies provide each recipient with a plastic card and Personal Identification Number (PIN) that serve to identify the recipient. Recipients are instructed to protect their card and PIN and as long as the PIN is secure, no one other than the recipient is able to use their benefits. The cards and PINs are used at authorized retailers who are guaranteed payment for the electronic purchases within two banking days. If EBT vouchers are necessary as a result of telecommunication or systems disruptions, retailers are guaranteed payment as long as they follow the procedures issued by the State agency. As a result, retailers are not concerned with other forms of ID.

Estimate of Burden: Currently, over 90 per cent of FSP benefits are delivered via EBT. Only one State agency (Guam) remains without EBT although three (California, Delaware, and Iowa) have not completed statewide implementation. Based on the schedules for these State agencies, there will be no coupon issuance by January 2005.

This information collection burden affects State agencies where there are still coupon issuance systems. In those areas each newly certified recipient must be issued an ID card and replacements must be provided if they are lost. There are only 609,973 recipient households being issued coupons as of March 2003. We estimate 38,034 new recipients will still be issued coupons and therefore ID cards annually. We also estimate that about 6,100 of the remaining recipients using coupons will lose their ID cards which the State agencies will have to replace. Therefore, the total State agency respondent estimate is 44,134 for the ID card burden; a reduction of 133,650 respondents from 177,784 respondents.

Although we expect the ID burden to end in January 2005, we will leave the estimate of the burden the same for all three of the renewal periods.

Affected Public: State agencies.

Estimated Number of Respondents: 44,134.

Estimated Number of Responses per respondent: 1.

Estimated Time per Response: 1 minute.

Estimated Total Annual Burden: 735.6 hours annually.

Roberto Salazar,
Administrator, Food and Nutrition Service.

[FR Doc. 03-19080 Filed 7-25-03; 8:45 am]

BILLING CODE 3410-30-P